DEPARTMENT OF COMMERCE

International Trade Administration

[A-427-832; A-201-855; A-580-912]

Acrylonitrile-Butadiene Rubber From France, the Republic of Korea, and Mexico: Postponement of Preliminary Determinations in the Less-Than-Fair-Value Investigations

AGENCY: Enforcement and Compliance, International Trade Administration, Department of Commerce.

DATES: Applicable November 17, 2021.

FOR FURTHER INFORMATION CONTACT: Patrick Barton at (202) 482-0012 (France); Dennis McClure at (202) 482-5973 (Mexico); and Andre Gziryan at (202) 482-2201 (Republic of Korea); AD/CVD Operations, Enforcement and Compliance, International Trade Administration, U.S. Department of Commerce, 1401 Constitution Avenue NW, Washington, DC 20230.

SUPPLEMENTARY INFORMATION:

Background

On July 20, 2021, the Department of Commerce (Commerce) initiated less-than-fair-value (LTFV) investigations of imports of acrylonitrile-butadiene rubber (AB rubber) from France, the Republic of Korea, and Mexico.¹ Currently, the preliminary determinations are due no later than December 7, 2021.

¹ See Acrylonitrile-Butadiene Rubber from France, the Republic of Korea, and Mexico: Initiation of Less-Than-Fair-Value Investigations, 86 FR 40192 (July 27, 2021).

Postponement of Preliminary Determinations

Section 733(b)(1)(A) of the Tariff Act of 1930, as amended (the Act), requires Commerce to issue the preliminary determination in an LTFV investigation within 140 days after the date on which Commerce initiated the investigation. However, section 733(c)(1)(A) and (B) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 1, 2021, the petitioner ² submitted a timely request that Commerce postpone the preliminary determinations in these LTFV investigations.³ The petitioner states that a postponement is necessary so that Commerce may have adequate time to issue clarifying supplemental questionnaires that address deficiencies in the respondents' antidumping questionnaire responses.

² The petitioner is Zeon Chemicals L.P. and Zeon GP, LLC (collectively, Zeon or the petitioner).

³ See Petitioner's Letter, “Acrylonitrile-Butadiene Rubber from France, Mexico, and South Korea: Petitioner's Request to Extend the Preliminary Determination,” dated November 1, 2021.

For the reasons stated above, and because there are no compelling reasons to deny the request, Commerce, in accordance with section 733(c)(1)(A) of the Act, is postponing the deadline for the preliminary determinations by 50 days (i.e., 190 days after the date on which these investigations were initiated). As a result, Commerce will issue its preliminary determinations no later than January 26, 2022. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: November 10, 2021.
Ryan Majerus,
Deputy Assistant Secretary for Policy and Negotiations, performing the non-exclusive functions and duties of the Assistant Secretary for Enforcement and Compliance.

[FR Doc. 2021-25069 Filed 11-16-21; 8:45 am]

BILLING CODE 3510-DS-P